NUCLEAR REGULATORY COMMISSION

10 CFR Parts 1, 2, 30, 31, 32, 34, 35, 37, 40, 51, 61, 62, 70, 71, 72, 73, 74, 75, 140, and 150

[NRC-2014-0220]

RIN 3150-AJ46

Organizational Changes and Conforming Amendments

AGENCY: Nuclear Regulatory Commission.

ACTION: Final rule.

SUMMARY: The U.S. Nuclear Regulatory Commission (NRC) is amending its regulations to reflect internal organizational changes and conforming amendments. These changes include adding the address for a new NRC building at headquarters, removing references to several committees that no longer exist, adding the Computer Security Office, removing all references to the Office of Federal and State Materials and Environmental Management Programs because that office has merged with the Office of Nuclear Material Safety and Safeguards, and making conforming amendments throughout the regulations to reflect this office merger.

DATES: This final rule is effective on December 19, 2014.

ADDRESSES: Please refer to Docket ID NRC-2014-0220 when contacting the NRC about the availability of information for this action. You may obtain publicly-available information related to this action by any of the following methods:

• Federal Rulemaking Web site: Go to http://www.regulations.gov and search for Docket ID NRC-2014-0220. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Jill Shepherd-Vladimir, Office of Administration, telephone: 301-287-0950; email: Jill.Shepherd@nrc.gov; U.S. Nuclear Regulatory Commission, Washington DC 20555-0001.

SUPPLEMENTARY INFORMATION:

I. Introduction

The NRC is amending its regulations in parts 1, 2, 30, 31, 32, 34, 35, 37, 40, 51, 61, 62, 70, 71, 72, 73, 74, 75, 140, and 150 of Title 10 of the Code of Federal Regulations (10 CFR) to make administrative changes. These changes include adding the address for a new NRC building at headquarters, removing references to several committees that no longer exist, adding the Computer Security Office, removing all references to the Office of Federal and State Materials and Environmental Management Programs because that office has merged with the Office of Nuclear Material Safety and Safeguards, and making conforming amendments throughout the regulations to reflect this office merger.

II. Summary of Changes

10 CFR Part 1 Changes

1. Reference to the NRC Functional Organization Charts, NUREG-0325, in § 1.3 is removed, because it is no longer published or updated.

2. The locations of principal NRC offices are updated to include the address of the Three White Flint North Building and to remove the addresses for two locations (Executive Boulevard and Gateway buildings) that are no longer occupied by the NRC.

3. The Panels, Boards, and Committees section is updated to remove the reference to the Advisory Committee on Nuclear Waste, the Advisory Committee for the Decontamination of Three Mile Island, Unit 2, and The Nuclear Safety Research Review Committee, that no longer exist.

4. The Office of Federal and State Materials and Environmental Management Programs is removed from § 1.32.

5. The Computer Security Office is added to the list of NRC offices.

6. The office description in § 1.41, Office of Federal and State Materials and Environmental Management Programs is removed, and the office description in § 1.42, Office of Nuclear Material Safety and Safeguards is revised to reflect new office responsibilities resulting from the merger with the Office of Federal and State Materials and Environmental Management Programs.

10 CFR Parts 2, 30, 31, 32, 34, 35, 37, 40, 51, 61, 62, 70, 71, 72, 73, 140, and 150

All references to the Office of Federal and State Materials and Environmental Management Programs are removed or removed and replaced by the Office of Nuclear Material Safety and Safeguards. Additional editorial changes, where necessary, have been made as the result of removing the references.

10 CFR Parts 37, 71, and 73

All references to the Division of Intergovernmental Liaison and Rulemaking are removed and replaced with the Division of Material Safety, State, Tribal, and Rulemaking Programs.

10 CFR Parts 40, 72, 73, 74, 75, and 150

All references to the Division of Fuel Cycle Safety and Safeguards are removed and replaced with the Division of Fuel Cycle Safety, Safeguards, and Environmental Review.

10 CFR Parts 71 and 72

All references to the Division of Spent Fuel Storage and Transportation are removed and replaced with the Division of Spent Fuel Management.

III. Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments, because notice and opportunity for comment are unnecessary. The amendments will have no substantive impact and are of a minor and administrative nature dealing with corrections to certain CFR parts related only to management, organization, procedure, and practice. Specifically, the revisions are of the following types: Adding the address for a new building at NRC headquarters, removing references to three committees that no longer exist, adding the Computer Security Office to the list of offices, removing all references to the Office of Federal and State Materials and Environmental Management Programs because that office has now merged with another NRC office, and making conforming amendments reflecting the office merger. These amendments do not require action by any person or entity regulated by the NRC. Also, the final rule does not change the substantive responsibilities of any person or entity regulated by the NRC. Furthermore, for the reasons previously stated, the NRC finds, pursuant to 5 U.S.C. 553(d)(3), that good cause exists to make this rule effective upon publication.

IV. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

V. Environmental Impact: Categorical Exclusion

The NRC has determined that this final rule is the type of action described in 10 CFR 51.22(c)(2), that excludes from a major action rules that are corrective, minor, or nonpolicy in nature and do not substantially modify existing regulations. Therefore, neither an environmental impact statement nor an environmental assessment has been prepared for this final rule.

VI. Paperwork Reduction Act Statement

This final rule does not contain information collection requirements and, therefore, is not subject to the Paperwork Reduction Act of 1995 (44 U.S.C. 3501 et seq.).

Public Protection Notification

The NRC may not conduct or sponsor, and a person is not required to respond to, a request for information or an information collection requirement, unless the requesting document displays a currently valid Office of Management and Budget control number.

VII. Backfitting and Issue Finality

The NRC has determined that the amendments in this final rule do not constitute backfitting and are not inconsistent with any of the issue finality provisions in 10 CFR part 52. The revisions are non-substantive in nature and do not impose any new requirements and make no substantive changes to the regulations. The amendments do not involve any provisions that would impose backfits as defined in 10 CFR chapter I, or would be inconsistent with the issue finality provisions in 10 CFR part 52. For these reasons, the issuance of the rule in final form would not constitute backfitting or represent an inconsistency with any of the issue finality provisions in 10 CFR part 52. Therefore, the NRC has not prepared any additional documentation for this rulemaking addressing backfitting or issue finality.

VIII. Congressional Review Act

In accordance with the Congressional Review Act of 1996 (5 U.S.C. 801-808), the NRC has determined that this action is not a major rule and has verified this determination with the Office of Information and Regulatory Affairs of the Office of Management and Budget.

List of Subjects

10 CFR Part 1

Organization and functions (Government agencies).

10 CFR Part 2

Administrative practice and procedure, Antitrust, Byproduct material, Classified information, Environmental protection, Nuclear materials, Nuclear power plants and reactors, Penalties, Sex discrimination, Source material, Special nuclear material, Waste treatment and disposal.

10 CFR Part 30

Byproduct material, Criminal penalties, Government contracts, Intergovernmental relations, Isotopes, Nuclear materials, Radiation protection, Reporting and recordkeeping requirements.

10 CFR Part 31

Byproduct material, Criminal penalties, Labeling, Nuclear materials, Packaging and containers, Radiation protection, Reporting and recordkeeping requirements, Scientific equipment.

10 CFR Part 32

Byproduct material, Criminal penalties, Labeling, Nuclear materials, Radiation protection, Reporting and recordkeeping requirements.

10 CFR Part 34

Criminal penalties, Packaging and containers, Radiation protection, Radiography, Reporting and recordkeeping requirements, Scientific equipment, Security measures.

10 CFR Part 35

Byproduct material, Criminal penalties, Drugs, Health facilities, Health professions, Medical devices, Nuclear materials, Occupational safety and health, Radiation protection, Reporting and recordkeeping requirements.

10 CFR Part 37

Byproduct material, Criminal penalties, Export, Hazardous materials transportation, Import, Licensed material, Nuclear materials, Reporting and recordkeeping requirements, Security measures.

10 CFR Part 40

Criminal penalties, Government contracts, Hazardous materials transportation, Nuclear materials, Reporting and recordkeeping requirements, Source material, Uranium.

10 CFR Part 51

Administrative practice and procedure, Environmental impact statement, Nuclear materials, Nuclear power plants and reactors, Reporting and recordkeeping requirements.

10 CFR Part 61

Criminal penalties, Low-level waste, Nuclear materials, Reporting and recordkeeping requirements, Waste treatment and disposal.

10 CFR Part 62

Administrative practice and procedure, Denial of access, Emergency access to low-level waste disposal, Low-level radioactive waste, Low-level radioactive waste treatment and disposal, Low-level waste policy amendments act of 1985, Nuclear materials, Reporting and recordkeeping requirements.

10 CFR Part 70

Criminal penalties, Hazardous materials transportation, Material control and accounting, Nuclear materials, Packaging and containers, Radiation protection, Reporting and recordkeeping requirements, Scientific equipment, Security measures, Special nuclear material.

10 CFR Part 71

Criminal penalties, Hazardous materials transportation, Nuclear materials, Packaging and containers, Reporting and recordkeeping requirements.

10 CFR Part 72

Administrative practice and procedure, Criminal penalties, Manpower training programs, Nuclear materials, Occupational safety and health, Penalties, Radiation protection, Reporting and recordkeeping requirements, Security measures, Spent fuel, Whistleblowing.

10 CFR Part 73

Criminal penalties, Export, Hazardous materials transportation, Import, Nuclear materials, Nuclear power plants and reactors, Reporting and recordkeeping requirements, Security measures.

10 CFR Part 74

Accounting, Criminal penalties, Hazardous materials transportation, Material control and accounting, Nuclear materials, Packaging and containers, Radiation protection, Reporting and recordkeeping requirements, Scientific equipment, Special nuclear material.

10 CFR Part 75

Criminal penalties, Intergovernmental relations, Nuclear materials, Nuclear power plants and reactors, Reporting and recordkeeping requirements, Security measures.

10 CFR Part 140

Criminal penalties, Extraordinary nuclear occurrence, Insurance, Intergovernmental relations, Nuclear materials, Nuclear power plants and reactors, Reporting and recordkeeping requirements.

10 CFR Part 150

Criminal penalties, Hazardous materials transportation, Intergovernmental relations, Nuclear materials, Reporting and recordkeeping requirements, Security measures, Source material, Special nuclear material.

For the reasons set out in the preamble and under the authority of the Atomic Energy Act of 1954, as amended; the Energy Reorganization Act of 1974, as amended; and 5 U.S.C. 552 and 553, the NRC is adopting the following amendments to 10 CFR chapter I.

PART 1—STATEMENT OF ORGANIZATION AND GENERAL INFORMATION

1. The authority citation for part 1 continues to read as follows:

Authority: Atomic Energy Act secs. 23, 29, 161, 191 (42 U.S.C. 2033, 2039, 2201, 2241); Energy Reorganization Act secs. 201, 203, 204, 205, 209 (42 U.S.C. 5841, 5843, 5844, 5845, 5849); 5 U.S.C. 552, 553; Reorganization Plan No. 1 of 1980, 45 FR 40561, June 16, 1980.

2. In § 1.3, revise paragraph (a) to read as follows:

§ 1.3 Sources of additional information.

(a) A statement of the NRC's organization, policies, procedures, assignments of responsibility, and delegations of authority is in the Nuclear Regulatory Commission Management Directives System and other NRC issuances, including local directives issued by Regional Offices. Letters and memoranda containing directives, delegations of authority and the like are also issued from time to time and may not yet be incorporated into the Management Directives System, parts of which are revised as necessary. Copies of the Management Directives System and other delegations of authority are available for public inspection and copying for a fee at the NRC Public Document Room, One White Flint North, 11555 Rockville Pike (first floor), Rockville, Maryland 20852-2738, and at each of NRC's Regional Offices. Information may also be obtained from the Office of Public Affairs or from Public Affairs Officers at the Regional Offices.

* * * * *

3. In § 1.5, revise paragraph (a)(3) and remove paragraph (a)(4) to read as follows:

§ 1.5 Location of principal offices and regional offices.

* * * * *

(a) * * *

(3) Three White Flint North Building, 11601 Landsdown Street, North Bethesda, Maryland 20852.

* * * * *

§ 1.18 [Removed and Reserved]

4. Remove and reserve § 1.18.

§ 1.19 [Amended]

5. In § 1.19, remove paragraphs (b) and (c) and redesignate paragraph (d) as paragraph (b).

§ 1.32 [Amended]

6. In § 1.32, paragraph (b), first sentence, remove the phrase “the Office of Federal and State Materials and Environmental Management Systems”.

7. Add § 1.38 to read as follows:

§ 1.38 Computer Security Office.

The Computer Security Office—

(a) Plans, recommends, and oversees the NRC's Information Technology (IT) Security Program consistent with applicable laws, regulations, management initiatives, and policies;

(b) Provides principal advice to the NRC on the infrastructure, as well as the programmatic and administrative aspects of cybersecurity;

(c) Establishes NRC-wide cybersecurity guidelines;

(d) Guides security process maturity, as well as formulating and overseeing the cybersecurity program budget; and

(e) Ensures NRC-wide integration, direction and coordination of IT security planning and performance within the framework of the NRC IT Security Program and with related Office of Information Services activities.

§ 1.41 [Removed and Reserved]

8. Remove and reserve § 1.41.

9. Revise § 1.42 to read as follows:

§ 1.42 Office of Nuclear Material Safety and Safeguards.

(a) The Office of Nuclear Material Safety and Safeguards (NMSS) is responsible for regulating activities that provide for the safe and secure production of nuclear fuel used in commercial nuclear reactors; the safe storage, transportation, and disposal of low-level and high-level radioactive waste and spent nuclear fuel; the transportation of radioactive materials regulated under the Atomic Energy Act of 1954, as amended (the Act); and all other medical, industrial, academic, and commercial uses of radioactive isotopes. The NMSS ensures safety and security by implementing a regulatory program involving activities including licensing, inspection, assessment of environmental impacts for all nuclear material facilities and activities, assessment of licensee performance, events analysis, enforcement, and identification and resolution of generic issues. The NMSS is also responsible for developing all new regulations and amending existing regulations for all nuclear material facilities and activities regulated by NMSS.

(b) The Office of Nuclear Material Safety and Safeguards—

(1) Develops and implements NRC policy for the regulation of: Uranium recovery, conversion, and enrichment; fuel fabrication and development; transportation of nuclear materials, including certification of transport containers and reactor spent fuel storage; safe management and disposal of spent fuel and low-level and high-level radioactive waste; and medical, industrial, academic, and commercial uses of radioactive isotopes;

(2) Has lead responsibility within NRC for domestic and international safeguards policy and regulation for fuel cycle facilities, including material control and accountability;

(3) Plans and directs NRC's program of cooperation and liaison with States, local governments, interstate and Indian tribe organizations; and coordinates liaison with other Federal agencies;

(4) Participates in formulation of policies involving NRC/State cooperation and liaison;

(5) Develops and directs administrative and contractual programs for coordinating and integrating Federal and State regulatory activities;

(6) Maintains liaison between NRC and State, interstate, regional, Tribal, and quasi-governmental organizations on regulatory matters;

(7) Promotes NRC visibility and performs general liaison with other Federal agencies, and keeps NRC management informed of significant developments at other Federal agencies that affect the NRC;

(8) Monitors nuclear-related State legislative activities;

(9) Directs regulatory activities of State Liaison and State Agreement Officers located in Regional Offices;

(10) Participates in policy matters on State Public Utility Commissions (PUCs);

(11) Administers the State Agreements program in a partnership arrangement with the States;

(12) Develops staff policy and procedures and implements State Agreements program under the provisions of Section 274b of the Act;

(13) Provides oversight of the program for reviews of Agreement State programs to determine their adequacy and compatibility as required by Section 274j of the Act and other periodic reviews that may be performed to maintain a current level of knowledge of the status of the Agreement State programs;

(14) Provides training to the States as provided by Section 274i of the Act and also to NRC staff and staff of the U.S. Navy and U.S. Air Force;

(15) Provides technical assistance to Agreement States;

(16) Maintains an exchange of information with the States;

(17) Conducts negotiations with States expressing an interest in seeking a Section 274b Agreement;

(18) Supports, consistent with Commission directives, State efforts to improve regulatory control for radiation safety over radioactive materials not covered by the Act;

(19) Serves as the NRC liaison to the Conference of Radiation Control Program Directors, Inc. (CRCPD) and coordinates NRC technical support of CRCPD committees;

(20) Conducts high-level waste pre-licensing activities, consistent with direction in the Nuclear Waste Policy Act and the Energy Policy Act, to ensure appropriate standards and regulatory guidance are in place, and interacts with the applicant;

(21) Is responsible for regulation and licensing of recycling technologies intended to reduce the amount of waste to be disposed through geologic disposal and to reduce proliferation concerns since the technologies do not produce separated plutonium;

(22) Interacts with the Department of Energy and international experts, in order to develop an appropriate regulatory framework, in recycling during development, demonstration, and deployment of new advanced recycling technologies that recycle nuclear fuel in a manner that does not produce separated plutonium;

(23) Creates and maintains the regulatory infrastructure to support the agency's role in licensing a reprocessing facility and a related fuel fabrication facility and vitrification and/or waste storage facility;

(24) Prepares the NRC to perform its regulatory role for new, expanded, and modified commercial fuel cycle facilities that may include recycling, transmutation, and actinide burning. This includes regulatory processes such as licensing, inspection, assessment of license performance assessment, events analysis, and enforcement that will ensure that this technology can be safely and securely implemented commercially in the United States;

(25) Develops, promulgates, and amends regulations generally associated with the materials regulated by NMSS and for all security-related regulations that will be applied to licensees and holders of certificates of compliance issued by NMSS;

(26) Supports safeguards activities including—

(i) Developing overall agency policy;

(ii) Monitoring and assessing the threat environment, including liaison with intelligence agencies, as appropriate; and

(iii) Conducting licensing and review activities appropriate to deter and protect against threats of radiological sabotage and threats of theft or diversion of nuclear material at regulated facilities and during transport;

(27) Regulates medical, industrial, academic, and commercial uses of radioactive isotopes;

(28) Oversees safe management and disposal of low-level radioactive wastes;

(29) Plans and directs program for financial assurance of NMSS licensees;

(30) Manages the decommissioning of facilities and sites when their licensed functions are over; and

(31) Identifies and takes action for activities under its responsibility, including consulting and coordinating with international, Federal, State, Tribal and local agencies, as appropriate.

PART 2—AGENCY RULES OF PRACTICE AND PROCEDURE

10. The authority citation for part 2 continues to read as follows:

Authority: Atomic Energy Act secs.161, 181, 191 (42 U.S.C. 2201, 2231, 2241); Energy Reorganization Act sec. 201 (42 U.S.C. 5841); FOIA 5 U.S.C. 552; Government Paperwork Elimination Act sec. 1704 (44 U.S.C. 3504 note).

Section 2.101 also issued under Atomic Energy Act secs. 53, 62, 63, 81, 103, 104 (42 U.S.C. 2073, 2092, 2093, 2111, 2133, 2134, 2135); Nuclear Waste Policy Act sec. 114(f) (42 U.S.C. 10143(f)); National Environmental Policy Act sec. 102 (42 U.S.C. 4332); Energy Reorganization Act sec. 301 (42 U.S.C. 5871).

Sections 2.102, 2.103, 2.104, 2.105, 2.321 also issued under Atomic Energy Act secs. 102, 103, 104, 183i, 189 (42 U.S.C. 2132, 2133, 2134, 2233, 2239). Sections 2.200-2.206 also issued under Atomic Energy Act secs. 161, 186, 234 (42 U.S.C. 2201(b),(i),(o), 2236, 2282); sec. 206 (42 U.S.C. 5846). Section 2.205(j) also issued under Pub. L. 101-410, as amended by section 3100(s), Pub. L. 104-134 (28 U.S.C. 2461 note). Subpart C also issued under Atomic Energy Act sec. 189 (42 U.S.C. 2239). Section 2.301 also issued under 5 U.S.C. 554. Sections 2.343, 2.346, 2.712 also issued under 5 U.S.C. 557. Section 2.340 also issued under Nuclear Waste Policy Act secs. 135, 141, Pub. L. 97-425, 96 Stat. 2232, 2241 (42 U.S.C. 10155, 10161). Section 2.390 also issued under 5 U.S.C. 552. Sections 2.600-2.606 also issued under sec. 102 (42 U.S.C. 4332). Sections 2.800 and 2.808 also issued under 5 U.S.C. 553. Section 2.809 also issued under 5 U.S.C. 553; Atomic Energy Act sec. 29 (42 U.S.C. 2039). Subpart K also issued under Atomic Energy Act sec. 189 (42 U.S.C. 2239); Nuclear Waste Policy Act sec. 134 (42 U.S.C. 10154). Subpart L also issued under Atomic Energy Act sec. 189 (42 U.S.C. 2239). Subpart M also issued under Atomic Energy Act sec. 184, 189 (42 U.S.C. 2234, 2239). Subpart N also issued under Atomic Energy Act sec. 189 (42 U.S.C. 2239).

11. In part 2:

a. Wherever it may occur, remove the phrase “Director, Office of Federal and State Materials and Environmental Management Programs,”;

b. Wherever it may occur, remove the phrase “The Director, Office of Federal and State Materials and Environmental Management Programs,”;

c. Wherever it may occur, remove the phrase “or the Director, Office of Federal and State Materials and Environmental Management Programs,”;

d. Wherever it may occur, remove the phrase “or the Director, Office of Federal and State Materials and Environmental Management Programs, as appropriate,”;

e. Wherever it may occur, remove the phrase “or Director, Office of Federal and State Materials and Environmental Management Programs,”; and

f. Wherever it may occur, remove the phrase “or Director, Office of Federal and State Materials and Environmental Management Programs, as appropriate,”.

§ 2.101 [Amended]

12. In § 2.101, in paragraph (a)(1), add the word “or” after the phrase “Office of Nuclear Reactor Regulation,”.

§ 2.103 [Amended]

13. In § 2.103, paragraph (a), in the second sentence, add the word “or” after the phrase “Office of New Reactors,”.

§ 2.106 [Amended]

14. In § 2.106, paragraph (d), remove the phrase “Office of Federal and State Materials and Environmental Management Programs” and add in its place the phrase “Office of Nuclear Material Safety and Safeguards”.

§ 2.340 [Amended]

15. In § 2.340, in paragraphs (e)(2) and (k), remove the comma after the phrase “the Commission” and add the word “or” after the phrase “the Commission”.

PART 30—RULES OF GENERAL APPLICABILITY TO DOMESTIC LICENSING OF BYPRODUCT MATERIAL

16. The authority citation for part 30 continues to read as follows:

Authority: Atomic Energy Act secs. 81, 82, 161, 181, 182, 183, 186, 223, 234 (42 U.S.C. 2111, 2112, 2201, 2231, 2232, 2233, 2236, 2273, 2282); Energy Reorganization Act secs. 201, 202, 206 (42 U.S.C. 5841, 5842, 5846); Government Paperwork Elimination Act sec. 1704 (44 U.S.C. 3504 note); Energy Policy Act of 2005, Pub. L. 109-58, 119 Stat. 549 (2005).

Section 30.7 also issued under Energy Reorganization Act sec. 211, Pub. L. 95-601, sec. 10, as amended by Pub. L. 102-486, sec. 2902 (42 U.S.C. 5851). Section 30.34(b) also issued under Atomic Energy Act sec. 184 (42 U.S.C. 2234). Section 30.61 also issued under Atomic Energy Act sec. 187 (42 U.S.C. 2237).

17. In part 30, wherever it may occur, remove the phrase “Office of Federal and State Materials and Environmental Management Programs” and add in its place the phrase “Office of Nuclear Material Safety and Safeguards”.

PART 31—GENERAL DOMESTIC LICENSES FOR BYPRODUCT MATERIAL

18. The authority citation for part 31 continues to read as follows:

Authority: Atomic Energy Act secs. 81, 161, 183, 223, 234 (42 U.S.C. 2111, 2201, 2233, 2273, 2282); Energy Reorganization Act secs. 201, 202 (42 U.S.C. 5841, 5842); Government Paperwork Elimination Act sec. 1704 (44 U.S.C. 3504 note); Energy Policy Act of 2005, sec. 651(e), Pub. L. 109-58, 119 Stat. 806-810 (42 U.S.C. 2014, 2021, 2021b, 2111).

19. In part 31, wherever it may occur, remove the phrase “Office of Federal and State Materials and Environmental Management Programs” and add in its place the phrase “Office of Nuclear Material Safety and Safeguards”.

PART 32—SPECIFIC DOMESTIC LICENSES TO MANUFACTURE OR TRANSFER CERTAIN ITEMS CONTAINING BYPRODUCT MATERIAL

20. The authority citation for part 32 continues to read as follows:

Authority: Atomic Energy Act secs. 81, 161, 181, 182, 183, 223, 234 (42 U.S.C. 2111, 2201, 2231, 2232, 2233, 2273, 2282); Energy Reorganization Act sec. 201 (42 U.S.C. 5841); Government Paperwork Elimination Act sec. 1704 (44 U.S.C. 3504 note); Energy Policy Act of 2005, sec. 651(e), Pub. L. 109-58, 119 Stat. 806-810 (42 U.S.C. 2014, 2021, 2021b, 2111).

21. In part 32, wherever it may occur, remove the phrase “Office of Federal and State Materials and Environmental Management Programs” and add in its place the phrase “Office of Nuclear Material Safety and Safeguards”.

PART 34—LICENSES FOR INDUSTRIAL RADIOGRAPHY AND RADIATION SAFETY REQUIREMENTS FOR INDUSTRIAL RADIOGRAPHIC OPERATIONS

22. The authority citation for part 34 continues to read as follows:

Authority: Atomic Energy Act secs. 81, 161, 181, 182, 183, 223, 234 (42 U.S.C. 2111, 2201, 2231, 2232, 2233, 2273, 2282); Energy Reorganization Act sec. 201 (42 U.S.C. 5841); Government Paperwork Elimination Act sec. 1704, (44 U.S.C. 3504 note). Atomic Energy Act of 2005 sec. 651(e), Pub. L. 109-58, 119 Stat. 806-810 (42 U.S.C. 2014, 2021, 2021b, 2111).

Section 34.45 also issued under Energy Reorganization Act sec. 206 (42 U.S.C. 5846).

23. In part 34, wherever it may occur, remove the phrase “Office of Federal and State Materials and Environmental Management Programs” and add in its place the phrase “Office of Nuclear Material Safety and Safeguards”.

PART 35—MEDICAL USE OF BYPRODUCT MATERIAL

24. The authority citation for part 35 continues to read as follows:

Authority: Atomic Energy Act secs. 81, 161, 181, 182, 183, 223, 234 (42 U.S.C. 2111, 2201, 2231, 2232, 2233, 2273, 2282); Energy Reorganization Act sec. 201, 206 (42 U.S.C. 5841, 5842, 5846); sec. 1704 (44 U.S.C. 3504 note); Energy Policy Act of 2005, sec. 651(e), Pub. L. 109-58, 119 Stat. 806-810 (42 U.S.C. 2014, 2021, 2021b, 2111).

25. In part 35, wherever it may occur, remove the phrase “Office of Federal and State Materials and Environmental Management Programs” and add in its place the phrase “Office of Nuclear Material Safety and Safeguards”.

PART 37—PHYSICAL PROTECTION OF CATEGORY 1 AND CATEGORY 2 QUANTITIES OF RADIOACTIVE MATERIAL

26. The authority citation for part 37 continues to read as follows:

Authority: Atomic Energy Act secs. 53, 81, 103, 104, 147, 148, 149, 161, 182, 183, 223, 234 (42 U.S.C. 2073, 2111, 2133, 2134, 2167, 2168, 2169, 2201a., 2232, 2233, 2273, 2282).

27. In part 37, wherever it may occur, the term or phrase in the left column in the following table is removed and the term or phrase in the right column is added in its place.

Remove | Add
Division of Intergovernmental Liaison and Rulemaking | Division of Material Safety, State, Tribal, and Rulemaking Programs.
Office of Federal and State Materials and Environmental Management Programs | Office of Nuclear Material Safety and Safeguards.

§ 37.7 [Amended]

28. In § 37.7, remove the phrase “Director, Office of Federal and State Materials and Environmental Management Programs;”.

PART 40—DOMESTIC LICENSING OF SOURCE MATERIAL

29. The authority citation for part 40 continues to read as follows:

Authority: Atomic Energy Act secs. 11(e)(2), 62, 63, 64, 65, 81, 161, 181, 182, 183, 186, 193, 223, 234, 274, 275 (42 U.S.C. 2014(e)(2), 2092, 2093, 2094, 2095, 2111, 2113, 2114, 2201, 2231, 2232, 2233, 2236, 2243, 2273, 2282, 2021, 2022); Energy Reorganization Act secs. 201, 202, 206 (42 U.S.C. 5841, 5842, 5846); Government Paperwork Elimination Act sec. 1704 (44 U.S.C. 3504 note); Energy Policy Act of 2005, Pub. L. 109-59, 119 Stat. 594 (2005).

Section 40.7 also issued under Energy Reorganization Act sec. 211, Pub. L. 95-601, sec. 10, as amended by Pub. L. 102-486, sec. 2902 (42 U.S.C. 5851). Section 40.31(g) also issued under Atomic Energy Act sec. 122 (42 U.S.C. 2152). Section 40.46 also issued under Atomic Energy Act sec. 184 (42 U.S.C. 2234). Section 40.71 also issued under Atomic Energy Act sec. 187 (42 U.S.C. 2237).

30. In part 40, wherever it may occur, the term or phrase in the left column in the following table is removed and the term or phrase in the right column is added in its place.

Remove | Add
Office of Federal and State Materials and Environmental Management Programs | Office of Nuclear Material Safety and Safeguards.
Division of Fuel Cycle Safety and Safeguards | Division of Fuel Cycle Safety, Safeguards, and Environmental Review.

PART 51—ENVIRONMENTAL PROTECTION REGULATIONS FOR DOMESTIC LICENSING AND RELATED REGULATORY FUNCTIONS

31. The authority citation for part 51 continues to read as follows:

Authority: Atomic Energy Act sec. 161, 1701 (42 U.S.C. 2201, 2297f); Energy Reorganization Act secs. 201, 202, 211 (42 U.S.C. 5841, 5842, 5851); Government Paperwork Elimination Act sec. 1704 (44 U.S.C. 3504 note). Subpart A also issued under National Environmental Policy Act secs. 102, 104, 105 (42 U.S.C. 4332, 4334, 4335); Pub. L. 95-604, Title II, 92 Stat. 3033-3041; Atomic Energy Act sec. 193 (42 U.S.C. 2243).

Sections 51.20, 51.30, 51.60, 51.80. and 51.97 also issued under Nuclear Waste Policy Act secs. 135, 141, 148 (42 U.S.C. 10155, 10161, 10168).

Section 51.22 also issued under Atomic Energy Act sec. 274 (42 U.S.C. 2021) and under Nuclear Waste Policy Act sec. 121 (42 U.S.C. 10141).

Sections 51.43, 51.67, and 51.109 also issued under Nuclear Waste Policy Act sec. 114(f) (42 U.S.C. 10134(f)).

32. In part 51, wherever it may occur, remove the phrase “Director, Office of Federal and State Materials and Environmental management Programs”.

PART 61—LICENSING REQUIREMENTS FOR LAND DISPOSAL OF RADIOACTIVE WASTE

33. The authority citation for part 61 continues to read as follows:

Authority: Atomic Energy Act secs. 53, 57, 62, 63, 65, 81, 161, 181, 182, 183, 223, 234 (42 U.S.C. 2073, 2077, 2092, 2093, 2095, 2111, 2201, 2231, 2232, 2233, 2273, 2282); Energy Reorganization Act secs. 201, 202, 206 (42 U.S.C. 5841, 5842, 5846), sec. 211, Pub. L. 95-601, sec. 10, as amended by Pub. L. 102-486, sec. 2902 (42 U.S.C. 5851). Pub. L. 95-601, sec. 10, 14, 92 Stat. 2951, 2953 (42 U.S.C. 2021a, 5851); Government Paperwork Elimination Act sec. 1704 (44 U.S.C. 3504 note); Energy Policy Act of 2005, sec. 651(e), Pub. L. 109-58, 119 Stat. 806-810 (42 U.S.C. 2014, 2021, 2021b, 2111).

34. In part 61, wherever it may occur, remove the phrase “Office of Federal and State Materials and Environmental Management Programs” and add in its place the phrase “Office of Nuclear Material Safety and Safeguards”.

PART 62—CRITERIA AND PROCEDURES FOR EMERGENCY ACCESS TO NON-FEDERAL AND REGIONAL LOW-LEVEL WASTE DISPOSAL FACILITIES

35. The authority citation for part 62 continues to read as follows:

Authority: Atomic Energy Act secs. 81, 161, 274 (42 U.S.C. 2111, 2201, 2021); Energy Reorganization Act secs. 201, 209 (42 U.S.C. 5841, 5849); Government Paperwork Elimination Act sec. 1704 (44 U.S.C. 3504 note); Energy Policy Act of 2005, sec. 651(e), Pub. L. 109-58, 119 Stat. 806-810 (42 U.S.C. 2014, 2021, 2021b, 2111).

36. In part 62, wherever it may occur, remove the phrase “Office of Federal and State Materials and Environmental Management Programs” and add in its place the phrase “Office of Nuclear Material Safety and Safeguards”.

PART 70—DOMESTIC LICENSING OF SPECIAL NUCLEAR MATERIAL

37. The authority citation for part 70 continues to read as follows:

Authority: Atomic Energy Act secs. 51, 53, 161, 182, 183, 193, 223, 234 (42 U.S.C. 2071, 2073, 2201, 2232, 2233, 2243, 2273, 2282, 2297f); secs. 201, 202, 204, 206, 211 (42 U.S.C. 5841, 5842, 5845, 5846, 5851); Government Paperwork Elimination Act sec. 1704 (44 U.S.C. 3504 note); Energy Policy Act of 2005, Pub. L. 109-58, 119 Stat. 194 (2005).

Sections 70.1(c) and 70.20a(b) also issued under secs. 135, 141, Pub. L. 97-425, 96 Stat. 2232, 2241 (42 U.S.C. 10155, 10161).

Section 70.21(g) also issued under Atomic Energy Act sec. 122 (42 U.S.C. 2152). Section 70.31 also issued under Atomic Energy Act sec. 57(d) (42 U.S.C. 2077(d)). Sections 70.36 and 70.44 also issued under Atomic Energy Act sec. 184 (42 U.S.C. 2234).

Section 70.81 also issued under Atomic Energy Act secs. 186, 187 (42 U.S.C. 2236, 2237).

Section 70.82 also issued under Atomic Energy Act sec. 108 (42 U.S.C. 2138).

38. In part 70, wherever it may occur, remove the phrase “Office of Federal and State Materials and Environmental Management Programs” and add in its place the phrase “Office of Nuclear Material Safety and Safeguards”.

PART 71—PACKAGING AND TRANSPORTATION OF RADIOACTIVE MATERIAL

39. The authority citation for part 71 continues to read as follows:

Authority: Atomic Energy Act secs. 53, 57, 62, 63, 81, 161, 182, 183, 223, 234, 1701 (42 U.S.C. 2073, 2077, 2092, 2093, 2111, 2201, 2232, 2233, 2273, 2282, 2297f); Energy Reorganization Act secs. 201, 202, 206, 211 (42 U.S.C. 5841, 5842, 5846, 5851); Nuclear Waste Policy Act sec. 180 (42 U.S.C. 10175); Government Paperwork Elimination Act sec. 1704 (44 U.S.C. 3504 note); Energy Policy Act of 2005, Pub. L. 109-58, 119 Stat. 594 (2005).

Section 71.97 also issued under sec. 301, Pub. L. 96-295, 94 Stat. 789-790.

40. In part 71, wherever it may occur, the phrase in the left column in the following table is removed and the term or phrase in the right column is added in its place.

Remove | Add
Office of Federal and State Materials and Environmental Management Programs | Office of Nuclear Material Safety and Safeguards.
Division of Spent Fuel Storage and Transportation | Division of Spent Fuel Management.
Division of Intergovernmental Liaison and Rulemaking | Division of Material Safety, State, Tribal, and Rulemaking Programs.

PART 72—LICENSING REQUIREMENTS FOR THE INDEPENDENT STORAGE OF SPENT NUCLEAR FUEL, HIGH-LEVEL RADIOACTIVE WASTE, AND REACTOR-RELATED GREATER THAN CLASS C WASTE

41. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2239, 2273, 2282, 2021); Energy Reorganization Act secs. 201, 202, 206, 211 (42 U.S.C. 5841, 5842, 5846, 5851); National Environmental Policy Act sec. 102 (42 U.S.C. 4332); Nuclear Waste Policy Act secs. 131, 132, 133, 135, 137, 141, 148 (42 U.S.C. 10151, 10152, 10153, 10155, 10157, 10161, 10168); Government Paperwork Elimination Act sec. 1704 (44 U.S.C. 3504 note); Energy Policy Act of 2005, Pub. L. 109-58, 119 Stat. 549 (2005).

Section 72.44(g) also issued under Nuclear Waste Policy Act secs. 142(b) and 148(c), (d) (42 U.S.C. 10162(b), 10168(c), (d)).

Section 72.46 also issued under Atomic Energy Act sec. 189 (42 U.S.C. 2239); Nuclear Waste Policy Act sec. 134 (42 U.S.C. 10154).

Section 72.96(d) also issued under Nuclear Waste Policy Act sec. 145(g) (42 U.S.C. 10165(g)).

Subpart J also issued under Nuclear Waste Policy Act secs. 117(a), 141(h) (42 U.S.C. 10137(a), 10161(h)).

Subpart K also issued under Nuclear Waste Policy Act sec. 218(a) (42 U.S.C. 10198).

42. In part 72, wherever it may occur, the phrase in the left column in the following table is removed and the phrase in the right column is added in its place.

Remove | Add
Office of Federal and State Materials and Environmental Management Programs | Office of Nuclear Material Safety and Safeguards.
Division of Spent Fuel Storage and Transportation | Division of Spent Fuel Management.
Division of Fuel Cycle Safety and Safeguards | Division of Fuel Cycle Safety, Safeguards, and Environmental Review.

PART 73—PHYSICAL PROTECTION OF PLANTS AND MATERIALS

43. The authority citation for part 73 continues to read as follows:

Authority: Atomic Energy Act secs. 53, 147, 161, 223, 234, 1701 (42 U.S.C. 2073, 2167, 2169, 2201, 2273, 2282, 2297(f), 2210(e)); Energy Reorganization Act sec. 201, 204 (42 U.S.C. 5841, 5844); Government Paperwork Elimination Act sec. 1704, 112 Stat. 2750 (44 U.S.C. 3504 note); Energy Policy Act of 2005, Pub. L. 109-58, 119 Stat. 594 (2005).

Section 73.1 also issued under Nuclear Waste Policy Act secs. 135, 141 (42 U.S.C, 10155, 10161).

Section 73.37(f) also issued under sec. 301, Pub. L. 96-295, 94 Stat. 789 (42 U.S.C. 5841 note).

44. In part 73, wherever it may occur, the phrase in the left column in the following table is removed and the phrase in the right column is added in its place.

Remove | Add
Division of Intergovernmental Liaison and Rulemaking | Division of Material Safety, State, Tribal, and Rulemaking Programs.
Division of Fuel Cycle Safety and Safeguards | Division of Fuel Cycle Safety, Safeguards, and Environmental Review.

PART 74—MATERIAL CONTROL AND ACCOUNTING OF SPECIAL NUCLEAR MATERIAL

45. The authority citation for part 74 continues to read as follows:

Authority: Atomic Energy Act secs. 53, 57, 161, 182, 183, 223, 234, 1701 (42 U.S.C. 2073, 2077, 2201, 2232, 2233, 2273, 2282, 2297f); Energy Reorganization Act secs. 201, 202, 206 (42 U.S.C. 5841, 5842, 5846); Government Paperwork Elimination Act sec. 1704 (44 U.S.C. 3504 note).

46. In part 74, wherever it may occur, remove the phrase “Division of Fuel Cycle Safety and Safeguards” and add in its place the phrase “Division of Fuel Cycle Safety, Safeguards, and Environmental Review”.

PART 75—SAFEGUARDS ON NUCLEAR MATERIAL—IMPLEMENTATION OF US/IAEA AGREEMENT

47. The authority citation for part 75 continues to read as follows:

Authority: Atomic Energy Act secs. 53, 63, 103, 104, 122, 161, 223, 234 (42 U.S.C. 2073, 2093, 2133, 2134, 2152, 2201, 2273, 2282); Energy Reorganization Act sec. 201 (42 U.S.C. 5841); Government Paperwork Elimination Act sec. 1704 (44 U.S.C. 3504 note).

Section 75.4 also issued under Nuclear Waste Policy Act secs. 135 (42 U.S.C. 10155, 10161).

48. In part 75, wherever it may occur, remove the phrase “Division of Fuel Cycle Safety and Safeguards” and add in its place the phrase “Division of Fuel Cycle Safety, Safeguards, and Environmental Review”.

PART 140—FINANCIAL PROTECTION REQUIREMENTS AND INDEMNITY AGREEMENTS

49. The authority citation for part 140 continues to read as follows:

Authority: Atomic Energy Act secs. 161, 170, 223, 234 (42 U.S.C. 2201, 2210, 2273, 2282); Energy Reorganization Act secs. 201, as amended, 202 (42 U.S.C. 5841, 5842); Government Paperwork Elimination Act sec. 1704 (44 U.S.C. 3504 note); Energy Policy Act of 2005 Pub. L. 109-58, 119 Stat. 594 (2005).

50. In part 140, wherever it may occur, remove the phrase “Director, Office of Federal and State Materials and Environmental Management Programs,”.

PART 150—EXEMPTIONS AND CONTINUED REGULATORY AUTHORITY IN AGREEMENT STATES AND IN OFFSHORE WATERS UNDER SECTION 274

51. The authority citation for part 150 continues to read as follows:

Authority: Atomic Energy Act sec. 161, 181, 223, 234 (42 U.S.C. 2201, 2021, 2231, 2273, 2282); Energy Reorganization Act sec. 201 (42 U.S.C. 5841); Government Paperwork Elimination Act sec. 1704 (44 U.S.C. 3504 note); Energy Policy Act of 2005, Pub. L. 109-58, 119 Stat. 594 (2005).

Sections 150.3, 150.15, 150.15a, 150.31, 150.32 also issued under Atomic Energy Act secs. 11e(2), 81, 83, 84 (42 U.S.C. 2014e(2), 2111, 2113, 2114).

Section 150.14 also issued under Atomic Energy Act sec. 53 (42 U.S.C. 2073).

Section 150.15 also issued under Nuclear Waste Policy Act secs. 135 (42 U.S.C. 10155).

Section 150.17a also issued under Atomic Energy Act sec. 122 (42 U.S.C. 2152).

Section 150.30 also issued under Atomic Energy Act sec. 234 (42 U.S.C. 2282).

52. In part 150, wherever it may occur, the phrase in the left column in the following table is removed and the phrase in the right column is added in its place.

Remove | Add
Office of Federal and State Materials and Environmental Management Programs | Office of Nuclear Material Safety and Safeguards.
Division of Fuel Cycle Safety and Safeguards | Division of Fuel Cycle Safety, Safeguards, and Environmental Review.

Dated at Rockville, Maryland, this 9th day of December, 2014.
For the Nuclear Regulatory Commission.
Roy P. Zimmerman,
Acting Executive Director for Operations.

[FR Doc. 2014-29664 Filed 12-18-14; 8:45 am]

BILLING CODE 7590-01-P